DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Interim Capital Construction Fund Agreement and Certificate Family of Forms.

OMB Control Number: 0648-0090.

Form Number(s): 88-14.

Type of Request: Regular submission (renewal of a currently approved information collection).

Number of Respondents: 500.

Average Hours per Response: Agreement and application, 30 minutes, Schedules A and B, and certificate, 1 hour.

Burden Hours: 2,500.

Needs and Uses: The respondents will be commercial fishing industry individuals, partnerships, and corporations which are applying for or have entered into Capital Construction Fund agreements with the Secretary of Commerce for allowing deferral of Federal taxation on fishing vessel income deposited into the fund for use in the acquisition, construction, or reconstruction of fishing vessels. Deferred taxes are recaptured by reducing an agreement vessel's basis for depreciation by the amount withdrawn from the fund for its acquisition, construction, or reconstruction. The information collected from agreement holders is used to determine their eligibility to participate in the Capital Construction Fund Program pursuant to 50 CFR part 259.

At the completion of construction/reconstruction, a certificate stating completion and costs must be submitted.

Affected Public: Business or other for-profit organizations.

Frequency: Annually and on occasion.

Respondent's Obligation: Required to obtain or retain benefits.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 7, 2010.
Gwellnar Banks,
Management Analyst, Office of the Chief Information Officer.

[FR Doc. 2010-25788 Filed 10-13-10; 8:45 am]

BILLING CODE 3510-22-P